DEPARTMENT OF COMMERCE

National Oceanic and Atmospheric Administration

RIN 0648-XD143

Western Pacific Fishery Management Council; Public Meetings; Correction

AGENCY: National Marine Fisheries Service (NMFS), National Oceanic and Atmospheric Administration (NOAA), Commerce.

ACTION: Notice of amendment to a public meeting notice.

SUMMARY: The Western Pacific Fishery Management Council (Council) will hold meetings of its 115th Scientific and Statistical Committee (SSC) and its 159th Council meeting to take actions on fishery management issues in the Western Pacific Region. The Council will also convene meetings of the Marianas Plan Team (PT), Guam Regional Ecosystem Advisory Committee (REAC), the Commonwealth of the Northern Marianas (CNMI) REAC, the Mariana Archipelago Advisory Panel (AP) and the Council's Program Planning Standing Committee and Executive and Budget Standing Committee.

DATES: The meetings will be held from March 11 through March 21, 2014. For specific times and agendas, see SUPPLEMENTARY INFORMATION.

ADDRESSES: Council office, 1164 Bishop Street, Suite 1400, Honolulu, HI 96813; telephone: (808) 522-8220.

Guam Hilton Hotel, 202 Hilton Road, Tumon Bay, Guam GU 96913; telephone: (671) 646-1835.

Fiesta Hotel, Saipan Beach, Garapan, MP CNMI 96950; telephone: (670) 234-6412.

Background documents will be available from, and written comments should be sent to, Mr. Arnold Palacios, Chair, Western Pacific Fishery Management Council, 1164 Bishop Street, Suite 1400, Honolulu, HI 96813, telephone: (808) 522-8220 or fax: (808) 522-8226.

FOR FURTHER INFORMATION CONTACT: Kitty M. Simonds, Executive Director; telephone: (808) 522-8220.

SUPPLEMENTARY INFORMATION: This notice is being re-published in its entirety due to a few changes. The original notice published February 21, 2014 (79 FR 9890). The 115th SSC meeting will be held in Honolulu on March 11-13, 2014 between 8:30 a.m. and 5 p.m.; the Marianas PT on March 14, 2014 between 8:30 a.m. and 5 p.m.; the CNMI REAC will meet on March 14, 2014 between 9:30 a.m. and 2:30 p.m.; The Joint Marianas PT and AP on March 14, 2014 between 6 p.m. and 9 p.m. and March 15, 2014 between 8:30 a.m. and 4 p.m.; and the Guam REAC will meet on March 19, 2014 between 1:30 p.m. and 5 p.m. The Council's Executive and Budget Standing Committee will meet on Saipan on March 16, 2014 between 3 p.m. and 5 p.m. and its Program Planning Standing Committee will meet on Saipan on March 17, 2014 between 7:30 a.m. and 9:30 a.m.; and the 159th Council Meeting will be held on Saipan between 10:30 a.m. and 5 p.m. on March 17, 2014 and between 9 a.m. and 5 p.m. on March 18, 2014; and in Guam between 8:30 a.m. and 5 p.m. on March 20, 2014, and between 9 a.m. and 5 p.m. on March 21, 2014. In addition, the Council will host Fishers Forums on Saipan on March 17, 2014 between 6 p.m. and 9 p.m. and on Guam on March 20, 2014 between 6 p.m. and 9 p.m.

The 115th SSC will be held at the Council's Office in Honolulu; the Guam REAC, Marianas PT and AP will be held at the Guam Hilton Hotel, Tumon Bay, Guam; the Council's Standing Committees, the CNMI REAC, the 159th Council Meeting on March 17 and 18 and Fishers Forum on March 17 will be held at the Fiesta Hotel, Garapan, Saipan, CNMI. The Council Meeting on March 20 and 21 and the Fishers Forum on March 20 will be held at the Guam Hilton Hotel.

In addition to the agenda items listed here, the SSC and Council will hear recommendations from Council advisory groups. Public comment periods will be provided throughout the agendas. The order in which agenda items are addressed may change. The meetings will run as late as necessary to complete scheduled business.

Schedule and Agenda for 115th SSC Meeting

8:30 a.m.-5 p.m., Tuesday, March 11, 2014

1. Introductions

2. Approval of Draft Agenda and Assignment of Rapporteurs

3. Status of the 115th SSC Meeting Recommendations

4. Report from the Pacific Islands Fisheries Science Center Director

5. Remarks from the New NMFS Senior Scientist for Ecosystem Research

6. Insular Fisheries

A. Main Hawaiian Islands (MHI) Bottomfish Restricted Fishing Area (BRFA) Management Plan

B. Report from MHI Bottomfish Working Group Research Priorities

C. Report on the CNMI Bottomfish Scoping (Action Item)

D. Informing Creel Survey Adjustment Factors Using Village-based Fisheries Profiles

E. Estimation of Catch Weight of Reef Fish from Hawaii Marine Recreational Fisheries Statistical Survey (HMRFSS)

F. Hawaii Kumu (White-saddle Goatfish) Stock Assessment

G. Public Comment

H. SSC Discussion and Recommendations

7. Program Planning

A. Report from P-star Working Group (Action Item)

B. Specifying Acceptable Biological Catches for the Coral Reef Species in the Western Pacific Region (Action Item)

C. Social Science Program Plan

D. Public Comment

E. SSC Discussion and Recommendations

8:30 a.m.-5 p.m., Wednesday, March 12, 2014

8. Pelagic Fisheries

A. Longline Fisheries Quarterly Reports

1. Hawaii

2. American Samoa

B. Economic Collapse of American Samoa Longline Fishery (Action Item)

C. Experimental Fishing Permit—American Samoa Large Vessel Prohibited Area (Action Item)

D. Modifying Hawaii Longline Fishery Eastern Pacific Ocean (EPO) Bigeye Tuna Catch Limit (Action Item)

E. Bigeye Tuna Movement Workshop

F. Disproportionate Burden Workshop

G. Workshop on Ecosystem Approaches to Pelagic Fisheries Management

H. International Fisheries

1. 10th Regular Session of the Western & Central Pacific Fisheries Commission (WCPFC 10)

2. International Scientific Committee (ISC)

I. Public Comment

J. SSC Discussion and Recommendations

9. Protected Species

A. Leatherback Turtle Bycatch Analysis and Revised TurtleWatch

B. SSC Subcommittee Review of the Insular False Killer Whale Photo-ID Data Analysis

C. Update on the Marine Mammal Stock Assessment Reports

D. Analysis of Impacts under the Deep-set Longline Biological Opinion

E. Updates on Endangered Species Act (ESA) and Marine Mammal Protection Act (MMPA) Actions

1. Results of an Update of the Corals of the World Information Base

2. Proposed Rule to List 66 Species of Coral as Endangered or Threatened under the ESA

3. Green Turtle Status Review

4. North Pacific Humpback Whale Petition

5. Proposed 2014 List of Fisheries

6. Other Relevant Actions

F. Report of the Protected Species Advisory Committee Meeting

G. Public Comment

H. SSC Discussion and Recommendations

8:30 a.m.-5 p.m., Thursday, March 13, 2014

10. Other Business

A. Electronic Monitoring Workshop

B. Fishery Ecosystem Plans (FEP) and Program Review

C. 116th SSC Meeting

11. Summary of SSC Recommendations to the Council

Schedule and Agenda for Marianas PT Meeting

8:30 a.m.-5 p.m., Friday March 14, 2014

1. Welcome and Introductions

2. Approval of the Agenda

3. Assignment of Rapporteurs

4. Report on Previous Plan Team Recommendations and Council Actions

5. Review of the Status of the Western Pacific Insular Fisheries

A. Commonwealth of Northern Mariana Islands

i. Update of fishery dependent and independent studies

ii. Coral Reef Fisheries

iii. Incorporating BioSampling Data in the Annual Report

iv. Bottomfish Fisheries

v. Discussions

B. Guam

i. Update of Fishery Dependent and Independent Studies

ii. Coral Reef Fisheries

iii. Report on Data Summaries for the Guam BioSampling Program

iv. Bottomfish Fisheries

v. Discussions

6. Discussion on the Non-Commercial Module for the Annual Report

7. Planning for the Joint Archipelagic Plan Team Meeting

8. Pre-Workshop Activities for the Technical Committee of the Fishery Data Collection and Research Committee

9. General Discussions

10. Other Business

11. Public Comment

Schedule and Agenda for CNMI REAC Meeting

9:30 a.m.-2:30 p.m., Friday, March 14, 2014

1. Welcome and Introductions

2. Status Report on 158th Council Meeting Recommendations regarding CNMI

3. Council Action Items for 159th meeting

A. CNMI Bottomfish Management—Removing the 50 Nautical Mile Area Closure for Large Vessels Fishing Around the CNMI Southern Islands

B. Coral Reef Annual Catch Limits

C. Discussion and Recommendations

4. Local CNMI Issues

A. President Proclamation on Territorial Waters

B. Status of Local Activities to Address Conflicting Shark Regulations

i. Legislative

ii. Administration

C. Military Activities

i. Prepositioning Ships

ii. Tinian, Farallon de Medinilla (FDM) and Pagan

iii. Discussion and Recommendations

5. Other Business

6. Public Comment

7. Discussion and Recommendations

Schedule and Agenda for Joint Marianas PT and AP Meeting

6 p.m.-9 p.m. Friday, March 14, 2014

1. Welcome and Introductions

2. Status of the Marianas Fisheries

3. Status of the Council

a. New at the Council

i. Advisory Group Changes (Non-Commercial Fisheries Advisory Committee, Protected Species Advisory Committee, Education, Climate Change and Marine Spatial Planning)

ii. AP Solicitation this Year (New 4-year Term Starting 2015)

iii. Outreach-Web site, E-newsletter, etc.

b. Status of 2013 AP Recommendations

c. Council Action Items

i. Annual Catch Limits for Coral Reef Species

ii. CNMI Bottomfish Management—Removing the 50 Nautical Mile Area Closure for Large Vessels Fishing Around the CNMI Southern Islands

d. Updates on Projects and Issues

i. Data Collection Efforts

1. Guam Military Data Collection Project

2. CNMI Data Collection Efforts

ii. Fishery Development

1. Guam Projects

2. CNMI Projects

iii. Community Projects

1. Malesso Community-based Marine Resource Plan

4. Advisory Panel Reports

a. Guam

b. CNMI

5. Public Comment

6. Day 1 Recommendations and Wrap up

7. Day 2 Workshop Introduction and Expectations

8:30 a.m.-4 p.m., Saturday, March 15, 2014

8. Marianas Fishery Ecosystem Plan Review and Priorities Workshop

a. Plenary-Overview and Purpose, Setting the Process Stage

i. Current/Traditional Approaches to Management

ii. Current Policies, Regulations and Factors

iii. Review of Available Information

iv. Review of Regulatory Regime

v. Essential Fish Habitat (EFH) and Habitat of Particular Concern (HAPC)

vi. Instructions for Plenary and Breakout

b. Breakout Session 1: Data Gathering

c. Breakout Session 2: Defining Needs and Priorities

d. Plenary-Report Back from Groups

e. Breakout Session 3: Developing Management Strategies and Measures

f. Breakout Session 4: Crafting an Effective Plan

g. Plenary-Report Back from Groups

h. Plenary-Wrap-up and Discussion

Schedule and Agenda for Guam REAC Meeting

1:30 p.m.-5 p.m., Wednesday, March 19, 2014

1. Welcome and Introductions

2. Status Report on 158th Council Meeting Recommendations for Guam

3. Community Resource Management Activities and Issues

A. Malesso Community-based Management Plan for Coastal and Marine Resources

B. Micronesia Compact Issues Related to Fisheries

i. Community Issues and Concerns Regarding Fishing Activities

ii. Report on GC Review of Compact Impact Issues Related to Fishing

C. Community Concerns regarding Military Impact to Fishing Community

D. Discussion

4. NOAA Initiatives

A. NOAA Research Cruise Plans for the Mariana Islands

B. NOAA Habitat Blueprint designation of Manell-Geus, Guam

C. Discussion

5. Other Business

6. Public Comment

7. Discussion and Recommendations

Schedule for Council Standing Committee Meetings

3 p.m.-5 p.m., Sunday, March 16, 2014

Executive and Budget Standing Committee

7:30 a.m.-9:30 a.m., Monday, March 17, 2014

Program Planning Standing Committee

Schedule and Agenda for 159th Council Meeting

10:30 a.m.-5 p.m., Monday, March 17, 2014

1. Opening Ceremony and Introductions

2. Opening Remarks

3. Approval of the 159th Agenda

4. Approval of the 158th Meeting Minutes

5. Executive Director's Report

6. Election of Officers

7. Agency Reports

A. National Marine Fisheries Service

1. Pacific Islands Regional Office

2. Pacific Islands Fisheries Science Center (PIFSC)

a. 2014 PIFSC Plan

B. NOAA General Counsel, Pacific Islands Region

1. Report on Compact Impact related to Fishing

C. U.S. Fish and Wildlife Service

D. Enforcement Section

1. U.S. Coast Guard

2. NMFS Office for Law Enforcement

3. NOAA General Counsel for Enforcement and Litigation

E. Public Comment

F. Council Discussion and Action

8. Marianas Archipelago—Part 1: CNMI

A. Arongol Falu

B. Legislative Report

C. Enforcement Issues

D. Marianas Trench Marine National Monument

1. President's Proclamation regarding Northern Islands, Tinian and Farallon de Medinilla

E. Bottomfish Area Closure Modification (Action Item)

F. Report on CNMI Projects

1. Data Collection Efforts

2. CNMI Commercial Dock Report

3. Marianas Skipjack Assessment Report

4. Status of Fish Market Development at Fishing Base

G. Community Activities and Issues

1. Military Initiatives on Tinian

2. Military Proposed Plans and Status

H. Education and Outreach Initiatives

1. Report of the Lunar Calendar

I. Advisory Group Recommendations

1. AP Recommendations

2. PT recommendations

3. REAC Recommendations

J. SSC Recommendations

K. Public Hearing

L. Council Discussion and Action

6 p.m.-9 p.m., Monday, March 17, 2014

Fishers Forum: Are Sharks the Frontier?

9 a.m.-5 p.m., Tuesday, March 18, 2014

9. Program Planning and Research

A. Report from P-star Working Group (Action Item)

B. Report from the Social Economic Ecological Management Uncertainty (SEEM) Working Group (Action Item)

C. Specifying Annual Catch Limits for the Coral Reef Species in the Western Pacific Region (Action Item)

D. Social Science Program Plan

E. Five-year Program Review

F. Education and Outreach

G. Advisory Group Recommendations

1. AP Recommendations

2. PT Recommendations

H. SSC Recommendations

I. Program Planning Standing Committee Recommendations

J. Public Hearing

K. Council Discussion and Action

10. American Samoa Archipelago

A. Motu Lipoti

B. Fono Report

C. Enforcement Issues

D. Community Activities and Issues

1. Update on Community Fisheries Development

2. Seafood Market Training Workshop

E. Education and Outreach Initiatives

F. SSC Recommendations

G. Public Comment

H. Council Discussion and Action

11. Public Comment on Non-Agenda Items

8:30 a.m.-5 p.m., Thursday, March 20, 2014

Guam Opening Ceremony and Introductions

Welcoming remarks

12. Marianas Archipelago—Part 2: Guam

A. Isla Informe

B. Legislative Report

C. Enforcement Issues

D. Report on Guam Projects and Programs

1. Status Report on the Manahak (rabbitfish) Project

2. Status Report on the Fishing Platform Project

3. Status Report on Agat Dock A project

4. Marianas Skipjack Assessment Report

5. Guam Military Data Collection Project

E. Community Development Activities and Issues

1. Malesso Community-based Marine Resource Plan

2. Report on the Piti Pride Tepungan Wide

3. NOAA Habitat Blue Print

4. Ritidian Point Firing Range Proposal

5. Report on Compact Impact related to Fishing

F. Education and Outreach Initiatives

1. Report of the Lunar Calendar Festival

2. Festival of the Pacific Arts 2016

3. President's Proclamation on Climate Change

G. Advisory Group Recommendations

1. AP Recommendations

2. PT Recommendations

3. REAC Recommendations

H. SSC Recommendations

I. Public Comment

J. Council Discussion and Action

13. Protected Species

A. Update on Marine Mammal Stock Assessments

B. Deep-set Longline Fishery Biological Opinion

C. Updates on Endangered Species Act and Marine Mammal Protection Act Actions

1. Results of an Update of the Corals of the World Information Base

2. Proposed Rule to List 66 Species of Coral as Endangered or Threatened under the ESA

3. Green Turtle Status Review

4. North Pacific Humpback Whale Petition

5. Proposed 2014 List of Fisheries

6. Other Relevant Actions

D. Report on the Insular Sea Turtle Programs

E. Advisory Group Recommendations

1. Protected Species Advisory Committee Recommendations

2. AP Recommendations

3. PT Recommendations

4. REAC Recommendations

F. SSC Recommendations

G. Public Comment

H. Council Discussion and Action

14. Public Comment on Non-Agenda Items

6 p.m.-9 p.m., Thursday, March 20, 2014

Fishers Forum: Malesso Community-based Marine Management Plan

9 a.m.-5 p.m., Friday, March 21, 2014

15. Pelagic & International Fisheries

A. Economic Collapse of American Samoa Longline Fishery (Action Item)

B. Experimental Fishing Permit—American Samoa Large Vessel Prohibited Area (Action Item)

C. Modifying Hawaii Longline Fishery EPO Bigeye Tuna Catch Limit (Action Item)

D. Bigeye Tuna Movement Workshop

E. Disproportionate Burden Workshop

F. International Fisheries

1. WCPFC 10

2. ISC

3. North Pacific Regional Fishery Management Organization (NPRFMO)

4. South Pacific Regional Fishery Management Organization (SPRFMO)

G. Longline Fisheries Quarterly Reports

H. Advisory Group Recommendations

1. AP Recommendations

2. PT Recommendations

3. REAC Recommendations

I. SSC Recommendations

J. Public Hearing

K. Council Discussion and Recommendations

16. Hawaii Archipelago

A. Moku Pepa

B. Legislative Report

C. Enforcement

D. Main Hawaiian Island Bottomfish

1. State of Hawaii BRFA Management Plan

2. Bottomfish Working Group

E. Community Projects, Activities and Issues

1. Supporting the Aha Moku System

2. Outreach and Education Report

F. SSC Recommendations

G. Public Comment

H. Council Discussion and Action

17. Administrative Matters

A. Financial Reports

B. Administrative Reports

C. Standard Operating Practices and Procedures (SOPP) Review and Changes

D. Council Family Changes

E. Meetings and Workshops

F. Report on Magnuson-Stevens Act (MSA) Reauthorization

G. Other Business

H. Standing Committee Recommendations

I. Public Comment

J. Council Discussion and Action

18. Other Business

Non-Emergency issues not contained in this agenda may come before the Council for discussion and formal Council action during its 159th meeting. However, Council action on regulatory issues will be restricted to those issues specifically listed in this document and any regulatory issue arising after publication of this document that requires emergency action under section 305(c) of the Magnuson-Stevens Act, provided the public has been notified of the Council's intent to take action to address the emergency.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: February 27, 2014.
Tracey L. Thompson,
Acting Deputy Director, Office of Sustainable Fisheries, National Marine Fisheries Service.

[FR Doc. 2014-04754 Filed 3-3-14; 8:45 am]

BILLING CODE 3510-22-P